DEPARTMENT OF COMMERCE

National Oceanic and Atmospheric Administration

Evaluation of Jobos Bay National Estuarine Research Reserve; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold an in-person public meeting to solicit input on the performance evaluation of the Jobos Bay National Estuarine Research Reserve. NOAA also invites the public to submit written comments.

DATES: NOAA will hold an in-person public meeting on Wednesday, June 7, 2023, at 5 p.m. Atlantic Standard Time. NOAA will consider all relevant written comments received by Friday, June 16, 2023.

ADDRESSES: Comments may be submitted by one of the following methods:

• In-Person Public Meeting: Provide oral comments during the in-person public meeting on Wednesday, June 7, 2023, at 5 p.m. Atlantic Standard Time at the Jobos Bay Reserve Visitor Center, Road 705, Kilometer 2.3, Main Street, Aguirre, Puerto Rico.

• Email: Send written comments to Ralph Cantral, evaluator, NOAA Office for Coastal Management, at Ralph.Cantral@noaa.gov. Include “Comments on Performance Evaluation of Jobos Bay National Estuarine Research Reserve” in the subject line of the message. NOAA will accept anonymous comments; however, the written comments NOAA receives are considered part of the public record, and the entirety of the comment, including the name of the commenter, email address, attachments, and other supporting materials, will be publicly accessible. Sensitive personally identifiable information, such as account numbers and Social Security numbers, should not be included with the comments. Comments that are not related to the performance evaluation of the Jobos Bay National Estuarine Research Reserve or that contain profanity, vulgarity, threats, or other inappropriate language will not be considered.

FOR FURTHER INFORMATION CONTACT: Ralph Cantral, evaluator, NOAA Office for Coastal Management, by email at Ralph.Cantral@noaa.gov or by phone at (843) 474-1357. Copies of the previous evaluation findings, reserve management plan, and reserve site profile may be viewed and downloaded at https://coast.noaa.gov/czm/evaluations/. A copy of the evaluation notification letter and most recent progress report may be obtained upon request by contacting Ralph Cantral.

SUPPLEMENTARY INFORMATION: Section 315(f) of the Coastal Zone Management Act (CZMA) requires NOAA to conduct periodic evaluations of federally approved national estuarine research reserves. The evaluation process includes holding one or more public meetings, considering public comments, and consulting with interested Federal, State, and local agencies and members of the public. During the evaluation, NOAA will consider the extent to which the Commonwealth of Puerto Rico has met the national objectives, adhered to the management program approved by the Secretary of Commerce, and adhered to the terms of financial assistance under the CZMA. When the evaluation is complete, NOAA's Office for Coastal Management will place a notice in the Federal Register announcing the availability of the final evaluation findings.

Authority: 16 U.S.C. 1461.

John R. King,
Chief, Business Operations Division, Office for Coastal Management, National Ocean Service, National Oceanic and Atmospheric Administration.

[FR Doc. 2023-11433 Filed 5-26-23; 8:45 am]

BILLING CODE 3510-JE-P